DEPARTMENT OF COMMERCE

Foreign-Trade Zones Board

[S-48-2017]

Foreign-Trade Zone 53—Tulsa, Oklahoma; Application for Subzone; Premier Logistics, LLC, Tulsa, Oklahoma

An application has been submitted to the Foreign-Trade Zones Board (the Board) by the City of Tulsa-Rogers County Port Authority, grantee of FTZ 53, requesting subzone status for the facility of Premier Logistics, LLC, located in Tulsa, Oklahoma. The application was submitted pursuant to the provisions of the Foreign-Trade Zones Act, as amended (19 U.S.C. 81a-81u), and the regulations of the Board (15 CFR part 400). It was formally docketed on March 24, 2017.

The proposed subzone (10 acres) is located at 4937 South 45th West Avenue in Tulsa. The proposed subzone would be subject to the existing activation limit of FTZ 53. No authorization for production activity has been requested at this time.

In accordance with the Board's regulations, Camille Evans of the FTZ Staff is designated examiner to review the application and make recommendations to the Executive Secretary.

Public comment is invited from interested parties. Submissions shall be addressed to the Board's Executive Secretary at the address below. The closing period for their receipt is May 9, 2017. Rebuttal comments in response to material submitted during the foregoing period may be submitted during the subsequent 15-day period to May 24, 2017.

A copy of the application will be available for public inspection at the Office of the Executive Secretary, Foreign-Trade Zones Board, Room 21013, U.S. Department of Commerce, 1401 Constitution Avenue NW., Washington, DC 20230-0002, and in the “Reading Room” section of the Board's Web site, which is accessible via www.trade.gov/ftz.

For further information, contact Camille Evans at Camille.Evans@trade.gov or (202) 482-2350.

Dated: March 24, 2017.
Andrew McGilvray,
Executive Secretary.

[FR Doc. 2017-06253 Filed 3-29-17; 8:45 am]

BILLING CODE 3510-DS-P